DEPARTMENT OF LABOR

Occupational Safety and Health Administration

29 CFR Part 1926

[Docket No. S-030]

RIN 1218-AC01

Safety Standards for Cranes and Derricks

AGENCY: Occupational Safety and Health Administration (OSHA), U.S. Department of Labor.

ACTION: Notice of changes in dates and times of June Negotiated Rulemaking Committee meeting.

SUMMARY: The Occupational Safety and Health Administration (OSHA) announces that the Crane and Derrick Negotiated Rulemaking Advisory Committee (C-DAC) has extended the dates and times of the June meeting in Phoenix, AZ. The meeting will be on June 1, 2, 3 and 4, 2004 and held at the Home Builders Association of Central Arizona facility located at 3200 East Camelback Road, Suite 180, Phoenix, AZ 85018. The June meeting will begin at 1 p.m. on June 1st and 8:30 a.m. on June 2, 3, and 4. The meeting is expected to last three and a half days. The Committee will review summary notes of the prior meeting and review draft regulatory text. The meeting will be open to the public. For more details, please see the original June Federal Register notice published at Volume 69 of the Federal Register, page 22748, April 27, 2004.

Signed at Washington, DC, this 11th day of May, 2004.
John L. Henshaw,
Assistant Secretary of Labor for Occupational Safety and Health.

[FR Doc. 04-11099 Filed 5-14-04; 8:45 am]

BILLING CODE 4510-26-P